DEPARTMENT OF TRANSPORTATION

Federal Railroad Administration

[Docket No. FRA-2013-0002-N-26]

Proposed Agency Information Collection Activities; Comment Request

AGENCY: Federal Railroad Administration (FRA), Department of Transportation (DOT).

ACTION: Notice and Request for Comments.

SUMMARY: In compliance with the Paperwork Reduction Act of 1995, this notice announces that the Information Collection Request (ICR) abstracted below is being forwarded to the Office of Management and Budget (OMB) for review and comment. The ICR describes the nature of the information collections and their expected burdens. The Federal Register notice with a 60-day comment period soliciting comments on the following collection of information was published on September 16, 2013 (78 FR 56995).

DATES: Comments must be submitted on or before January 17, 2014.

FOR FURTHER INFORMATION CONTACT: Mr. Robert Brogan, Office of Planning and Evaluation Division, RRS-21, Federal Railroad Administration, 1200 New Jersey Ave. SE., Mail Stop 25, Washington, DC 20590 (Telephone: (202) 493-6292), or Ms. Kimberly Toone, Office of Information Technology, RAD-20, Federal Railroad Administration, 1200 New Jersey Ave. SE., Mail Stop 35, Washington, DC 20590 (Telephone: (202) 493-6132). (These telephone numbers are not toll-free.)

SUPPLEMENTARY INFORMATION: The Paperwork Reduction Act of 1995 (PRA), Pub. L. No. 104-13, § 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On September 16, 2013, FRA published a 60-day notice in the Federal Register soliciting comment on ICRs that the agency was seeking OMB approval. See 78 FR 56995. FRA received one comment in response to this notice pertaining to this particular collection of information.

The comment came from the Dennis J. Fixler, Chief Statistician, of the Bureau of Economic Analysis (BEA). Mr. Fixler stated the following:

The Bureau of Economic Analysis (BEA) strongly supports the continued collection of data by the Federal Railroad Administration on the Accident/Incident Reporting and Recordkeeping forms. The data collected on these forms are crucial to key components of BEA's economic statistics.

BEA uses data collected on these forms to prepare estimates of the employee compensation component of national income and state personal income. Specifically, data on the number of employee injuries and deaths from forms FRA F 6180.55 and FRA F 618.55a, Railroad Injury and Illness Summary, are used to prepare estimates of workers' compensation for the railroad industry. These same data are used to prepare estimates of workers' compensation for the railroad industry by state . . .

FRA received no other comments. Accordingly, these information collection activities have been re-evaluated and certified under 5 CFR 1320.5(a) and are being forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the information collection request (ICR) and the expected burden. The revised request is being submitted for clearance by OMB as required by the PRA.

Title: Accident/Incident Reporting and Recordkeeping.

OMB Control Number: 2130-0500.

Type of Request: Extension with change of a current collection approved.

Affected Public: Railroads.

Form(s): FRA F 6180.39i; 54; 55; 55A; 56; 57; 78; 81; 97; 98; 99;107; 150.

Abstract: The collection of information is due to the railroad accident reporting regulations set forth in 49 CFR Part 225 which require railroads to submit monthly reports summarizing collisions, derailments, and certain other accidents/incidents involving damages above a periodically revised dollar threshold, as well as certain injuries to passengers, employees, and other persons on railroad property. Because the reporting requirements and the information needed regarding each category of accident/incident are unique, a different form is used for each category.

Annual Estimated Burden: 39,095 hours.

Title: Special Notice for Repairs.

Addressee: Send comments regarding these information collections to the Office of Information and Regulatory Affairs, Office of Management and Budget, 725 Seventeenth Street NW., Washington, DC, 20503, Attention: FRA Desk Officer. Comments may also be sent via email to OMB at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on December 12, 2013.
Rebecca Pennington,
Chief Financial Officer.

[FR Doc. 2013-30025 Filed 12-17-13; 8:45 am]

BILLING CODE 4910-06-P